DEPARTMENT OF EDUCATION

[CFDA No. 84.364A]

Office of Elementary and Secondary Education; Improving Literacy Through School Libraries Program (LSL); Notice Inviting Applications for New Awards for Fiscal Year (FY) 2003

Purpose of Program: The purpose of this program is to improve student literacy skills and academic achievement by providing students with increased access to up-to-date school library materials; a well-equipped, technologically advanced school library media center; and well-trained, professionally certified school library media specialists.

Eligible Applicants: Local Educational Agencies (LEAs) in which at least 20 percent of the students served by the LEA are from families with incomes below the poverty line. (20 U.S.C. 6383). A list of LEAs with their family poverty rates is posted on the web at: http://www.ed.gov/offices/OESE/LSL.

Deadline for Notification of Intent to Apply for Funding: We strongly encourage each potential applicant to notify us by March 28, 2003, of your intent to submit an application for funding. We will be able to develop a more efficient process for reviewing grant applications if we have an estimate of the number of entities that intend to apply for funding under this competition. Notifications should be sent by e-mail to the following Internet address: LSL@ed.gov.

Please put “Notice of Intent” in the subject line. Applicants that fail to provide this e-mail notification may still apply for funding.

Applications Available: March 6, 2003.

Deadline for Transmittal of Applications: April 28, 2003.

Deadline for Intergovernmental Review: June 27, 2003.

Estimated Available Funds: $12,000,000.

Estimated Range of Awards: $20,000 to $350,000.

Estimated Average Size of Awards: $75,000.

Note: The size of the awards will be commensurate with the nature and scope of the work proposed and the number of schools to be served.

Estimated Number of Awards: 75-100.

Note: The Department is not bound by any estimates in this notice.

Project Period: 12 months.

Page Limit: The application must include the following sections: title page form (ED 424), one-page abstract, program narrative, budget summary form (ED 524) with budget narrative, individual resumes (up to 3 pages each) for project directors and other key personnel, statement of equitable access (GEPA 427), and other required forms and assurances as described in the application package. Please note that this program is a competitive discretionary grant program, so it is essential that your program narrative address the selection criteria that reviewers use to evaluate your application.

Applicants are strongly encouraged to limit the program narrative (text plus all figures, charts, tables, and diagrams) to the equivalent of 15 pages, using the following standards:

• A “page” is 8.5″ x 11″, on one side only, with 1″ margins at the top, bottom, and both sides.

• Double space (no more than three lines per vertical inch) all text in the program narrative.

• Use a font that is either 12-point or larger or no smaller than 10 pitch (characters per inch).

• Include all critical information in the program narrative, eliminating the need for appendices.

• The page limit does not apply to the title page form (ED 424), the one-page abstract, the budget summary form and narrative budget justification, the resumes, or the assurances and certifications.

We have found that reviewers are able to conduct the highest-quality review when applications are concise and easy to read, with pages consecutively numbered.

Applicable Regulations: The Education Department General Administrative Regulations (EDGAR) in 34 CFR parts 75, 77, 79, 80, 81, 82, 85, 97, 98 and 99.

Description of Program: The Improving Literacy Through School Libraries (LSL) program, Subpart 4 of Part B of Title I of the Elementary and Secondary Education Act (ESEA), as amended by the No Child Left Behind Act promotes comprehensive local strategies to improve student reading achievement by improving school library services and resources. The LSL program is one component of the Department's commitment to dramatically improving student reading achievement by focusing available resources, including those of school library media centers, on ensuring that no child is left behind. School library media centers contribute to the improvement of student reading achievement when there is increased collaboration among instructional and school library media center staff, provision of additional instructional materials and resources, and the extension of hours of operation to include non-school hours.

Invitational Priority

We are particularly interested in applications that meet the following invitational priority.

The Secretary strongly encourages applicants to focus on comprehensive and collaborative reading efforts that maximize the impact of the project on improving student reading achievement. Applicants are encouraged to demonstrate the direct link between the proposed activities and improved reading achievement.

Under 34 CFR 75.105(c)(1) we do not give an application that meets the invitational priority a competitive or absolute preference over other applications.

Selection Criteria

We use the following selection criteria to evaluate applications for new grants under this competition. The maximum score for all of these criteria is 100 points. The maximum score for each criterion is indicated in parentheses.

We evaluate an application by determining how well the proposed project meets the following provisions:

(a) Meeting the purpose of the statute (10 points).

How well the proposed project addresses the intended outcome of the statute to improve student literacy skills and academic achievement by providing students with increased access to up-to-date school library materials; a well-equipped, technologically advanced school library media center; and well-trained, professionally certified school library media specialists.

(b) Need for school library resources (10 points). How well the applicant demonstrates the need for school library media improvement, based on the age and condition of school library media resources, including: Book collections; access of school library media centers to advanced technology; and the availability of well-trained, professionally certified school library media specialists, in schools served by the applicant.

(c) Use of funds (35 points). How well the applicant will use the funds made available through the grant to carry out those of the following activities that meet its demonstrated needs—

(1) Acquiring up-to-date school library media resources, including books.

(2) Acquiring and using advanced technology, incorporated into the curricula of the school, to develop and enhance the information literacy, information retrieval, and critical thinking skills of students.

(3) Facilitating Internet links and other resource-sharing networks among schools and school library media centers, and public and academic libraries, where possible.

(4) Providing professional development, as described in section 1222(d)(2) of the ESEA, for school library media specialists, and providing activities that foster increased collaboration between school library media specialists, teachers, and administrators.

(5) Providing students with access to school libraries during non-school hours, including the hours before and after school, during weekends, and during summer vacation periods.

(d) Use of scientifically based research (10 points). How well the applicant will use programs and materials that are grounded in scientifically based research, as defined in section 9101(37) of the ESEA, in carrying out one or more of the activities described under criterion(c) above.

(e) Broad-based involvement and coordination (15 points). How well the applicant will extensively involve school library media specialists, teachers, administrators, and parents in the proposed project activities and effectively coordinate the funds and activities provided under this program with other literacy, library, technology, and professional development funds and activities.

(f) Evaluation of quality and impact (20 points). How well the applicant will collect and analyze data on the quality and impact of the proposed project activities, including the extent to which the availability of, the access to, and the use of up-to-date school library media resources in the elementary schools and secondary schools served by the applicant were increased; and the impact on improving the reading skills of students.

Geographic Distribution

In making funding decisions we will also consider the equitable distribution of grants across geographic regions and among local educational agencies serving urban and rural areas.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The Improving Literacy Through School Libraries Program, CFDA #84.364A, is one of the programs included in the pilot project. If you are an applicant under the Improving Literacy Through School Libraries Program you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget InformationNon-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the Improving Literacy Through School Libraries Program and you are prevented from submitting your application on the closing date because the e-Application system is unavailable, we will grant you an extension of one business day in order to transmit your application electronically, by mail, or by hand delivery. For us to grant this extension—

(1) You must be a registered user of e-Application, and have initiated an e-Application for this competition; and (2)(a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under FOR FURTHER INFORMATION CONTACT or (2) the e-GRANTS help desk at 1-888-336-8930.

You may access the electronic grant application for the Improving Literacy Through School Libraries Program at: http://e-grants.ed.gov.

FOR APPLICATIONS CONTACT: Applications will be available on the World Wide Web at the following sites: http://www.ed.gov/offices/OESE/LSL; http://www.ed.gov/GrantApps.

Hard Copies will be available after March 6, 2003, from the Education Publications Center (ED Pubs), P.O. Box 1398, Jessup, MD 20794-1398. Telephone (toll free) 1-877-433-7827. FAX: (301) 470-1244. If you use a telecommunications device for the deaf (TDD), you may call (toll free): 1-877-576-7734.

You may also contact ED Pubs at its Web site: http://www.ed.gov/pubs/edpubs.html. or you may contact ED Pubs at its e-mail address: edpubs@inet.ed.gov.

If you request an application from ED Pubs, be sure to identify this competition as follows: 84.364A.

FOR FURTHER INFORMATION CONTACT: Margaret McNeely or Beth Fine, U.S. Department of Education, 400 Maryland Avenue, SW., room 5C130, FOB-6, Washington, DC 20202-6200. Telephone: (202) 260-1335 (Margaret McNeely) or (202) 260-1091 (Beth Fine) or via Internet: LSL@ed.gov.

If you use a telecommunications device for the deaf (TDD), you may call the Federal Information Relay Service (FIRS) at 1-800-877-8339. Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6383.

Dated: March 3, 2003.
Eugene W. Hickok,
Under Secretary of Education.

[FR Doc. 03-5284 Filed 3-5-03; 8:45 am]

BILLING CODE 4000-01-P